ENVIRONMENTAL PROTECTION AGENCY

[FRL OPRM-FAD-202]

Environmental Impact Statements; Notice of Availability

Responsible Agency: Office of Federal Activities, General Information 202-993-3272 or https://www.epa.gov/nepa.

Weekly receipt of Environmental Impact Statements (EIS)

Filed December 8, 2025 10 a.m. EST Through December 15, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250170, Draft, USA, IL, Disposal and Reuse of LRA Parcel 20 at Savanna Army Depot Activity Carroll and Jo Daviess Counties, Illinois, Comment Period Ends: 02/02/2026, Contact: Mr. Joe Hand 251-694-3881.

EIS No. 20250171, Draft, USAF, TX, T-7A Recapitalization at Sheppard Air Force Base, Comment Period Ends: 02/02/2026, Contact: Ms. Chinling Chen 940-676-2732.

EIS No. 20250172, Final, USACE, ND, Dakota Access Pipeline, Lake Oahe Crossing, Review Period Ends: 01/20/2026, Contact: Brent Cossette 402-995-2716.

EIS No. 20250173, Final Supplement, BOEM, AK, Cook Inlet Planning Area Oil and Gas Lease Sale 258 In Cook Inlet, Alaska, Contact: Casey Rowe 907-312-3788.

EIS No. 20250174, Final, NMFS, HI, ADOPTION—Hawaii-California Training and Testing, Contact: Alyssa Clevenstine 301-427-8401.

The National Marine Fisheries Service (NMFS) has adopted the United States Navy's Final EIS No. 20250139 filed 09/24/2025 with the Environmental Protection Agency. The NMFS was a cooperating agency on this project. Therefore, republication of the document is not necessary.

Dated: December 15, 2025.
Nancy Abrams,
Deputy Director, Federal Activities Division.

[FR Doc. 2025-23436 Filed 12-18-25; 8:45 am]

BILLING CODE 6560-50-P